DEPARTMENT OF TRANSPORTATION

Coast Guard

33 CFR Part 117

[CGD01-00-014]

Drawbridge Operation Regulations: Norwalk River, CT

AGENCY: Coast Guard, DOT.

ACTION: Notice of temporary deviation from regulations.

SUMMARY: The Commander, First Coast Guard District, has issued a temporary deviation from the drawbridge operation regulations for the Washington Street S136 Bridge, mile 0.0, across the Norwalk River at Norwalk, Connecticut. This deviation from the regulations allows the bridge owner to keep the S136 Bridge in the closed position Tuesday through Thursday each week from March 28 through April 20, 2000. These closures are necessary to facilitate structural repairs at the bridge.

DATES: This deviation is effective March 28, 2000, through April 20, 2000.

FOR FURTHER INFORMATION CONTACT: Mr. Joe Arca, Project Officer, First Coast Guard District, at (212) 668-7165.

SUPPLEMENTARY INFORMATION: The Washington Street S136 Bridge, mile 0.0, across the Norwalk River at Norwalk, Connecticut, has a vertical clearance of 9 feet at mean high water, and 16 feet at mean low water in the closed position. The bridge owner, Connecticut Department of Transportation, requested a temporary deviation from the operating regulations to facilitate structural repairs at the bridge. The existing operating regulations listed at 33 CFR 117.217 require the bridge to open on signal, except that, from 7 a.m. to 8:45 a.m., 11:45 a.m. to 1:15 p.m., and 4 p.m. to 6 p.m., Monday through Friday, except holidays, the draw need not be opened for the passage of vessels that draw less than 14 feet of water.

This deviation to the operating regulations allows the owner of the bridge to keep the bridge in the closed position as follows:

March 28, 2000, through March 30, 2000;

April 4, 2000, through April 6, 2000;

April 11, 2000, through April 13, 2000;

April 18, 2000, through April 20, 2000.

These repairs are being performed during the time period that there have been few requests to open the bridge. Vessels that can pass under the bridge without an opening may do so at all times.

In accordance with 33 CFR 117.35(c), this work will be performed with all due speed in order to return the bridge to normal operation as soon as possible. This deviation from the operating regulations is authorized under 33 CFR 117.35.

Dated: March 22, 2000.
G.N. Naccara
Rear Admiral, U.S. Coast Guard, Commander, First Coast Guard District.

[FR Doc. 00-8139 Filed 3-31-00; 8:45 am]

BILLING CODE 4915-15-U-P